DEPARTMENT OF LABOR

Employment and Training Administration

[NAFTA-7646]

Nestle Purina, St. Joseph, Missouri; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2273), an investigation was initiated on October 31, 2002, in response to a petition filed by the Retail, Wholesale and Department Store Union (RWDSU) on behalf of workers at Nestle Purina, St. Joseph, Missouri.

The petitioner has requested that the petition be withdrawn. Consequently, further investigation in this case would serve no purpose, and the investigation has been terminated.

Signed in Washington, DC, this 3rd day of December 2002.
Elliott S. Kushner,
Certifying Officer, Division of Trade Adjustment Assistance.

[FR Doc. 02-32595 Filed 12-24-02; 8:45 am]

BILLING CODE 4510-30-P